DEPARTMENT OF THE INTERIOR

Bureau of Land Management

[(WY-920-1320-EL), WYW151634]

Federal Coal, Environmental Impact Statement and Notice of Scoping

AGENCY: Bureau of Land Management, Interior.

ACTION: Notice of intent to prepare an environmental impact statement and notice of scoping for a lease application received from Triton Coal Company for Federal coal in the decertified Powder River Federal Coal Production Region, Wyoming.

SUMMARY: The Bureau of Land Management (BLM) received a competitive coal lease application from Triton Coal Company, LLC (Triton) on August 31, 2000, for a maintenance tract containing approximately 135 million tons of Federal coal and including approximately 933 acres in an area adjacent to the company's Buckskin Mine. This tract, assigned case number WYW151634, is called the West Hay Creek tract. On November 5, 2001, BLM received a request from Triton to modify the West Hay Creek tract to include about 840 acres and 130 million tons of Federal coal. The Buckskin Mine and West Hay Creek tract are located in Campbell County, Wyoming. The tract was applied for as a lease-by-application (LBA) under the provisions of 43 Code of Federal Regulations (CFR) 3425.1. Triton proposes to mine the tract as a maintenance tract for the Buckskin Mine. At the 2001 mining rate of about 19 million tons per year, mining the coal in the West Hay Creek tract would extend the life of the Buckskin Mine by approximately seven years.

The Powder River Regional Coal Team (RCT) reviewed this lease application at a public meeting held on October 25, 2000, in Cheyenne, Wyoming. The RCT recommended that BLM process the application. In order to process the application, BLM must comply with the requirements of the National Environmental Policy Act (NEPA). BLM has determined that the requirements of NEPA would be best served by preparing an environmental impact statement (EIS) for this lease application. The EIS process is beginning with this Notice of Intent and Notice of Scoping. The purpose of the public scoping period and public scoping meeting is to allow interested parties to submit comments and/or relevant information that BLM should consider in preparing a draft EIS and in evaluating the Fair Market Value (FMV) and Maximum Economic Recovery (MER) of the Federal coal included in this coal lease application.

DATES: The scoping period for this Federal coal lease application began on June 1, 2002, and will end July 31, 2002. Scoping comments should be submitted by July 31, 2002, in order to be fully considered in the draft EIS. A public scoping meeting is scheduled for June 26, 2002, at 7 p.m., at the Clarion Western Plaza Hotel, 2009 South Douglas Highway, Gillette, Wyoming.

If you have concerns or issues that you believe the BLM should address in processing this coal lease application, you can express them verbally at the scoping meeting; or you can mail, e-mail or fax written comments to BLM at the addresses given below by July 31, 2002.

ADDRESSES: Please address questions, comments, or concerns to the Casper Field Office, Bureau of Land Management, Attn: Patricia Karbs, 2987 Prospector Drive, Casper, Wyoming 82604, fax them to 307-261-7587, or send e-mail comments to casper—wymail@blm.gov, attn: Patricia Karbs.

FOR FURTHER INFORMATION CONTACT: Patricia Karbs or Nancy Doelger at the above address, or telephone 307-261-7600.

SUPPLEMENTARY INFORMATION: On August 31, 2000, Triton filed a coal lease application for a maintenance tract containing approximately 135 million tons of Federal coal and including approximately 933 acres. This tract, case number WYW151634, is called the West Hay Creek tract. On November 5, 2001, BLM received a request from Triton to modify the West Hay Creek tract for the following lands in Campbell County, Wyoming:

T. 52 N., R. 72 W., 6th P.M., Wyoming

Section 17: Lots 5 (S½ S½), 6 (S½S½), 7 (S½S½), 8 (S½S½), 9-14;

Section 18: Lots 13 (E½), 20 (E½);

Section 19: Lots 5 (E½), 12 (E½), 13 (E½), 20 (E½);

Section 25: Lots 2 (W½, W½E½), 3-6, 7 (W½,W½E½), 10 (W½, W½E½), 11-14.

Containing 838.0975 acres, more or less.

The tract includes an estimated 130 million tons of coal in place. As part of the coal leasing process, BLM will evaluate the tract configuration, and may decide to add or subtract Federal coal to avoid bypassing coal or to increase estimated fair market value.

The Buckskin Mine, which is adjacent to the lease application area, has an approved mining and reclamation plan from the Land Quality Division of the Wyoming Department of Environmental Quality (DEQ). The mine has an approved air quality permit from the Air Quality Division of the Wyoming DEQ to mine up to 27.5 million tons of coal per year.

The Office of Surface Mining Reclamation and Enforcement (OSM) will be a cooperating agency in the preparation of the EIS. If the West Hay Creek LBA tract is leased to the applicant, the new lease must be incorporated into the existing mining plans for the adjacent mine, and the Secretary of the Interior must approve the revised mining plan before the Federal coal in the tract can be mined. OSM is the Federal agency that would be responsible for recommending approval, approval with conditions, or disapproval of the revised mining plan to the Secretary if the tract is leased.

A major issue the BLM has identified related to coal leasing in the Powder River Basin is the need to resolve conflicts between existing and proposed oil and gas development, including coal bed methane, and proposed coal mining on the West Hay Creek LBA tract. Other issues identified include the potential impacts to big game herds and hunting, the potential impacts to sage grouse, the size of the tract as applied for, the need for considering the cumulative impacts of this leasing decision, the validity and currency of the resource data to be used in analyzing the impacts, the impact on existing land uses, the potential impacts to sensitive and endangered species including prairie dogs and mountain plover, and the potential impacts on air and water quality. If you have specific concerns about these issues, or have other concerns or issues that BLM should consider in processing this application, please address them in writing to the above address. Written comments should be received by July 31, 2002, in order to be fully considered in the draft EIS.

Comments, including names and street addresses of respondents, will be available for public review at the address listed above during regular business hours (7:45 a.m.-4:30 p.m.), Monday through Friday, except holidays. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

Dated: April 17, 2002.
Alan Rabinoff,
Deputy State Director, Minerals and Lands.

[FR Doc. 02-15964 Filed 6-20-02; 2:01 pm]

BILLING CODE 4310-22-P